DEPARTMENT OF ENERGY

Federal Energy Regulatory Commission

[Project No. 2179-043—California; Project No. 2467-020—California]

Merced Irrigation District, Pacific Gas and Electric Company; Notice of Availability of the Draft Environmental Impact Statement for the Merced River and Merced Falls Hydroelectric Projects

In accordance with the National Environmental Policy Act of 1969 and the Federal Energy Regulatory Commission (Commission or FERC) regulations contained in the Code of Federal Regulations (CFR) (18 CFR part 380 [FERC Order No. 486, 52 FR 47897]), the Office of Energy Projects has reviewed the applications for license for the Merced River Hydroelectric Project (FERC No. 2179), and the Merced Falls Hydroelectric Project (FERC No. 2467) and prepared a draft multi-project environmental impact statement (EIS) for the projects.

Both projects are located on the Merced River. The Merced River Project is located at river mile (RM) 62.5 and 56.3, respectively, about 23 miles northeast of the city of Merced in Mariposa County, California. The Merced River Project occupies 3,154.9 acres of federal land administered by the U.S. Department of the Interior, Bureau of Land Management (BLM). The Merced Falls Project is located at RM 55 on the border of Merced and Mariposa Counties, California. The Merced Falls Project occupies 1.0 acre of federal land administered by BLM.

The draft EIS contains staff's analysis of the applicants' proposals and the alternatives for relicensing the Merced River and Merced Falls projects. The draft EIS documents the views of governmental agencies, non-governmental organizations, affected Indian tribes, the public, the license applicants, and Commission staff.

A copy of the draft EIS is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via email of new filings and issuances related to this or other pending projects. For assistance, contact FERC Online Support.

All comments must be filed by Friday, May 29, 2015, and should reference Project Nos. 2179-043 and 2467-020. The Commission strongly encourages electronic filing. Please file comments using the Commission's efiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE., Washington, DC 20426.

Anyone may intervene in this proceeding based on this draft EIS (18 CFR 380.10). You must file your request to intervene as specified above. You do not need intervenor status to have your comments considered.

Commission staff will hold two public meetings for the purpose of receiving comments on the draft EIS. The daytime meeting will focus on resource agency, Indian tribe, and non-governmental organization comments, while the evening meeting is primarily for receiving input from the public. All interested individuals and entities will be invited to attend the public meeting. A notice detailing the exact date, time, and location of the public meetings will be forthcoming.

For further information, please contact Matt Buhyoff at (202) 502-6824 or at matt.buhyoff@ferc.gov.

Dated: March 30, 2015.
Kimberly D. Bose,
Secretary.

[FR Doc. 2015-07764 Filed 4-3-15; 8:45 am]

BILLING CODE 6717-01-P